DEPARTMENT OF HEALTH AND HUMAN SERVICES

[Document Identifier: OS-0990-0438]

Agency Information Collection Request; 30-Day Public Comment Request

AGENCY: Office of the Secretary, HHS

ACTION: Notice.

SUMMARY: In compliance with the requirement of the Paperwork Reduction Act of 1995, the Office of the Secretary (OS), Department of Health and Human Services, is publishing the following summary of a proposed collection for public comment.

DATES: Comments on the ICR must be received on or before September 19, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Office of Adolescent Health Teen Pregnancy Prevention, FY 2015-2020 Performance Measure Collection.

Type of Collection: Extension.

OMB No. 0990-0438.

Abstract: The Office of Adolescent Health (OAH), U.S. Department of Health and Human Services (HHS), is requesting renewal by OMB of the existing information collection request for performance measures collection from the TPP grant recipients. Performance measure data collection is a requirement of TPP grants; the extension will allow for the completion of data collection from cohort 2. The collection will provide OAH with performance data to inform planning decisions; identify technical assistance needs for grantees; facilitate grantees' continuous quality improvement in program implementation; and provide HHS, Congress, OMB, and the general public with information about the individuals who participate in TPP-funded activities.

Estimated Annualized Burden Table
Type of respondent | Number of respondents | Number of responses per respondent | Average burden per response (in hours) | Total burden hours
Grant Recipient—Dissemination Form | 84 | 2 | 15/60 | 42
Grant Recipient—Partnerships Form | 84 | 2 | 15/60 | 42
Grant Recipient—Facilitator Training Form | 84 | 2 | 15/60 | 42
Grant Recipient—Healthcare Linkages Form | 84 | 2 | 15/60 | 42
Grant Recipient: Participant Reach Form | 84 | 2 | 168/60 | 470
Grant Recipient: Dosage Form | 84 | 2 | 102/60 | 286
Grant Recipient Fidelity Form | 84 | 2 | 102/60 | 286
Grant Recipient: Cost Form | 84 | 1 | 30/60 | 42
Total |  |  |  | 1252

Terry Clark,
Office of the Secretary, Asst Paperwork Reduction Act Reports Clearance Officer.

[FR Doc. 2018-17812 Filed 8-17-18; 8:45 am]

BILLING CODE 4168-11-P